DEPARTMENT OF TRANSPORTATION

Surface Transportation Board

[STB Finance Docket No. 34999]

Idaho & Sedalia Transportation Company, LLC—Lease Exemption—RCL Rocks, LLC

Idaho & Sedalia Transportation Company, LLC (I&S), a noncarrier, has filed a verified notice of exemption under 49 CFR 1150.31 to acquire (by lease), pursuant to an agreement with RCL Rocks, LLC (RCL), approximately 5.5 miles of rail line, located at Union Pacific Railroad Company's Valentine Subdivision, milepost 741, near Sierra Blanca, TX.

The issue line comprises the East Leg Wye, the West Leg Wye, the Meridian Aggregate Lead, and the Long Runaround and Short Runaround Tracks beginning at milepost 741. The line is further identified as Track Numbers 790, 791, 792, 793, 794, and 795. I&S is leasing the line from RCL for continued rail operations. I&S states that the lease will not result in significant changes in carrier operations.

I&S certifies that its projected annual revenues as a result of the transaction will not exceed $5 million and will not result in the creation of a Class II or Class I carrier. I&S states that it intends to consummate the transaction and effectuate the lease in April 2007 or before then. The earliest this transaction may be consummated is the March 23, 2007 effective date of the exemption (30 days after the exemption was filed).

If the verified notice contains false or misleading information, the exemption is void ab initio. Petitions to revoke the exemption under 49 U.S.C. 10502(d) may be filed at any time. The filing of a petition to revoke will not automatically stay the transaction. Petitions for stay must be filed no later than March 16, 2007 (at least 7 days before the exemption becomes effective).

An original and 10 copies of all pleadings, referring to STB Finance Docket No. 34999, must be filed with the Surface Transportation Board, 395 E Street, SW., Washington, DC 20423. In addition, a copy of each pleading must be served on W. Robert Dyer, Jr., Gardere Wynne Sewell, LLP, 1601 Elm Street, Suite 3000, Dallas, TX 75201.

Board decisions and notices are available on our Web site at http://www.stb.dot.gov.

Decided: February 23, 2007.
By the Board, David M. Konschnik, Director, Office of Proceedings.
Vernon A. Williams,
Secretary.

[FR Doc. E7-3567 Filed 3-2-07; 8:45 am]

BILLING CODE 4915-01-P